DEPARTMENT OF LABOR

Office of Workers' Compensation Programs

Advisory Board on Toxic Substances and Worker Health: Subcommittee on Evidentiary Requirements for Part B Lung Disease

AGENCY: Office of Workers' Compensation Programs, Labor.

ACTION: Announcement of meeting of the Subcommittee on Evidentiary Requirements for Part B Lung Disease of the Advisory Board on Toxic Substances and Worker Health (Advisory Board) for the Energy Employees Occupational Illness Compensation Program Act (EEOICPA).

SUMMARY: The subcommittee will meet via teleconference on June 29, 2016, from 10:00 a.m. to 2:00 p.m. Eastern Time.

For Press Inquiries Contact: For press inquiries: Ms. Amanda McClure, Office of Public Affairs, U.S. Department of Labor, Room S-1028, 200 Constitution Avenue NW., Washington, DC 20210; telephone (202) 693-4672; email mcclure.amanda.c@dol.gov.

SUPPLEMENTARY INFORMATION: The Advisory Board is mandated by Section 3687 of EEOICPA. The Secretary of Labor established the Board under this authority and Executive Order 13699 (June 26, 2015). The purpose of the Advisory Board is to advise the Secretary with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. The Advisory Board sunsets on December 19, 2019. This subcommittee is being assembled to gather data and begin working on advice under Area #3, Evidentiary Requirements for Part B lung conditions.

The Advisory Board operates in accordance with the Federal Advisory Committee Act (FACA) (5 U.S.C. App. 2) and its implementing regulations (41 CFR part 102-3).

Agenda: The tentative agenda for the Subcommittee on Evidentiary Requirements for Part B Lung Disease meeting includes:

• Defining the issues and scope of the subcommittee's topic area: Evidentiary requirements for lung disease claims under EEOICPA's Part B;

• Defining data and informational needs (and review) for the topic area;

• Drafting the initial work plan with a timetable.

OWCP transcribes Advisory Board subcommittee meetings. OWCP posts the transcripts on the Advisory Board Web page, http://www.dol.gov/owcp/energy/regs/compliance/AdvisoryBoard.htm, along with written comments and other materials submitted to the subcommittee or presented at subcommittee meetings.

Public Participation, Submissions, and Access to the Public Record

Subcommittee meeting: The subcommittee will meet via teleconference on Wednesday, June 29, 2016, from 10:00 a.m. until 2:00 p.m. Eastern Time. Advisory Board subcommittee meetings are open to the public. The teleconference number and other details for listening to the meeting will be posted on the Advisory Board's Web site no later than 72 hours prior to the meeting. This information will be posted at http://www.dol.gov/owcp/energy/regs/compliance/AdvisoryBoard.htm.

Requests for special accommodations: Please submit requests for special accommodations to participate in the subcommittee meeting by email, telephone, or hard copy to Ms. Carrie Rhoads, OWCP, Room S-3524, U.S. Department of Labor, 200 Constitution Avenue NW., Washington, DC 20210; telephone (202) 343-5580; email EnergyAdvisoryBoard@dol.gov.

Submission of written comments for the record: You may submit written comments, identified by the subcommittee name and the meeting date of June 29, 2016, by any of the following methods:

• Electronically: Send to: EnergyAdvisoryBoard@dol.gov (specify in the email subject line, “Subcommittee on Part B Lung Conditions”).

• Mail, express delivery, hand delivery, messenger, or courier service: Submit one copy to the following address: U.S. Department of Labor, Office of Workers' Compensation Programs, Advisory Board on Toxic Substances and Worker Health, Room S-3522, 200 Constitution Ave. NW., Washington, DC 20210. Due to security-related procedures, receipt of submissions by regular mail may experience significant delays.

Comments must be received by June 22, 2016. OWCP will make available publically, without change, any written comments, including any personal information that you provide. Therefore, OWCP cautions interested parties against submitting personal information such as Social Security numbers and birthdates.

Electronic copies of this Federal Register notice are available at http://www.regulations.gov. This notice, as well as news releases and other relevant information, are also available on the Advisory Board's Web page at http://www.dol.gov/owcp/energy/regs/compliance/AdvisoryBoard.htm.

FOR FURTHER INFORMATION CONTACT: You may contact Antonio Rios, Designated Federal Officer, at rios.antonio@dol.gov, or Carrie Rhoads, Alternate Designated Federal Officer, at rhoads.carrie@dol.gov, U.S. Department of Labor, 200 Constitution Avenue NW., Suite S-3524, Washington, DC 20210, telephone (202) 343-5580. This is not a toll-free number.

Signed at Washington, DC, this 8th day of June 2016.
Leonard J. Howie III,
Director, Office of Workers' Compensation Programs.

[FR Doc. 2016-14159 Filed 6-14-16; 8:45 am]

BILLING CODE 4510-24-P